DEPARTMENT OF COMMERCE

NATIONAL OCEANIC AND ATMOSPHERIC ADMINISTRATION

DEPARTMENT OF THE INTERIOR

Fish and Wildlife Service

[I.D. 091100E]

Availability of a Draft Environmental Assessment and Receipt of Applications for Incidental Take Permits for I.P. Pacific Timberlands, Inc. (I.P. Pacific) Draft Habitat Conservation Plan, Yakima and Klickitat Counties, WA.

AGENCIES: National Marine Fisheries Service, National Oceanic and Atmospheric Administration, Commerce; Fish and Wildlife Service, Interior.

ACTION: Notice of application and availability for public comment.

SUMMARY: This notice advises other agencies and the public that I.P. Pacific has submitted applications to the Fish and Wildlife Service and the National Marine Fisheries Service (collectively, the Services) for Incidental Take Permits (Permits) pursuant to the Endangered Species Act of 1973, as amended (Act). As required by the Act, I.P. Pacific has also prepared a draft Habitat Conservation Plan (HCP) intended to minimize and mitigate any such take of endangered or threatened species. The Permit applications are related to forest land management and timber harvest on 28,388 acres of I.P. Pacific’s lands within the Yakama Indian Reservation, located in Yakima and Klickitat Counties, WA.

The Permit applications include the draft HCP and the draft Implementing Agreement. The Services also announce the availability of a draft Environmental Assessment (EA) for the Permit applications. The draft EA and HCP have been combined in a single document with the HCP as the Proposed Action Alternative, Alternative B, termed the Multi-species HCP Alternative.

This notice is provided pursuant to the Act and National Environmental Policy Act (NEPA) regulations. The Services are furnishing this notice in order to allow other agencies and the public an opportunity to review and comment on these documents. All comments received will become part of the public record and will be available for review pursuant to the Act.

DATES: Written comments on the permit applications, draft EA, HCP, and Implementing Agreement must be received no later than November 20, 2000.

ADDRESSES: Requests for documents on CD ROM should be made by calling the Fish and Wildlife Service at (360) 534-9330. Hardbound copies are also available for viewing, and partial or complete duplication (see SUPPLEMENTARY INFORMATION, under the heading Libraries).

The documents may also be viewed electronically on the World Wide Web at the Fish and Wildlife Service Region 1 HCP Home Page: http://pacific.fws.gov/hcp.

Comments and requests for information should be directed to Tim McCracken, Project Biologist, Fish and Wildlife Service, 215 Melody Lane, Wenatchee, WA 98801, telephone: (509) 665-3505, facsimile: (509)665-3509, or Matt Longenbaugh, Project Biologist, National Marine Fisheries Service, 510 Desmond Drive, S.E., Suite 103, Lacey, WA 98503-1263, telephone: (360)753-7761; facsimile: (360)753-9517. Comments and materials received will also be available for public inspection, by appointment, during normal business hours by calling (360) 534-9330.

SUPPLEMENTARY INFORMATION: Section 9 of the Act and Federal regulations prohibit the “taking” of a species listed as endangered or threatened. The term “take” is defined under the Act to mean harass, harm, pursue, hunt, shoot, wound, kill, trap, capture, or collect, or to attempt to engage in any such conduct. Harm is defined to include significant habitat modification or degradation where it actually kills or injures wildlife by significantly impairing essential behavioral patterns, including breeding, spawning, rearing, migrating, feeding, or sheltering.

The proposed Permits would authorize take of the following endangered or threatened species incidental to otherwise lawful activities: northern spotted owl (Strix occidentalis caurina), bald eagle (Haliaeetus leucocephalus), grizzly bear (Ursus arctos), gray wolf (Canis lupus), Canada lynx (Lynx canadensis), bull trout (Salvelinus confluentus), and the mid-Columbia River Evolutionarily Significant Unit of steelhead (Onchorhyncus mykiss). The proposed Permits would also authorize future incidental take for 30 currently unlisted species, should they become listed in the future, such as coho salmon (Onchorhyncus kisutch), Oregon spotted frog (Rana pretiosa).

The Services may issue permits, under limited circumstances, to take listed species incidental to, and not the purpose of, otherwise lawful activities. Fish and Wildlife Service regulations governing permits for endangered species are promulgated in 50 CFR 17.22 and, regulations governing permits for threatened species are promulgated in 50 CFR 17.32. National Marine Fisheries Service regulations governing permits for threatened and endangered species are promulgated in 50 CFR 222.307.

I.P. Pacific owns and manages scattered parcels throughout the upper Klickitat River Basin. The portion of these lands located within the Yakama Indian Reservation are being considered by the Services for coverage under section 10(a) of the Act. I.P. Pacific’s ownership proposed for coverage totals 28,388 acres, located near the southwest corner of Yakima County near the town of Glenwood, WA. Proposed management activities include timber harvest and general forest management. Some timber harvest and forest management activities have the potential to affect species subject to protection under the Act. Section 10 of the Act contains provisions for the issuance of permits to non-federal land owners for the take of endangered and threatened species, provided the take is incidental to otherwise lawful activities, and will not appreciably reduce the likelihood of the survival and recovery of the species in the wild. In addition, the applicant must prepare and submit to the Services for approval an HCP containing a strategy for minimizing and mitigating all take associated with the proposed activities to the maximum extent practicable. The applicant must also ensure that adequate funding for the HCP will be provided.

I.P. Pacific has developed the draft HCP with technical assistance from the Services to obtain the Permits for their activities on land under their ownership within the boundaries of the Yakama Indian Reservation. Activities proposed for Permit coverage include the following: harvest of trees; silvicultural treatments; site preparation; tree planting; timberland inventory and monitoring; construction, maintenance, and use of logging roads and landings; quarrying stone and gravel; fire prevention and suppression; habitat restoration; use of low-flying aircraft; tribal access; and, aerial spraying of the biological pesticide Bt (Bacillus thuringiensis) to control spruce budworm. Clear-cutting of timber will be minimized and used only where necessary to restore sustainable stands. The Permits also propose to cover certain monitoring activities and fish and wildlife surveys within the Plan area.

Federal guidelines regarding tribal trust responsibilities and government-to-government relations with the Yakama Tribe are being closely followed by the Services. The Yakama Tribal Council, Timber Program, and Resources Offices have been consulted throughout the Plan development process to the greatest extent possible. The following three alternatives are currently analyzed in detail in the draft EA: (A) the No Action Alternative; (B) the Proposed Plan Alternative, titled the Multi-species HCP Alternative; and, (C) the Spotted Owl Only Alternative. Under Alternative A, the No Action Alternative, no permit would be issued, take would be avoided for all threatened and endangered species on the property, and Yakama Indian Nation guidelines for protection of riparian areas would be followed. Alternative B, the Multi-species HCP Alternative, involves issuing a Permit authorizing take of seven threatened and endangered species on the property, with provisions for authorizing take for 30 unlisted species in the future should they be listed during the term of the Permits. The Plan details minimization and mitigation measures for these threatened, endangered, and unlisted species. Alternative C, the Spotted Owl Only Alternative, involves the Fish and Wildlife Service issuing a permit for the northern spotted owl only, and I.P. Pacific would continue to follow the Yakama Indian Nation guidelines for protection of riparian areas, as in the No Action Alternative.

Alternatives considered during scoping but which were not analyzed in detail include a Historical Forest Restoration Alternative, a Washington State Forest and Fish Agreement Alternative, an Expanded Covered Species Alternative, and a Northwest Forest Plan Alternative. These four alternatives were not analyzed in detail because they did not meet the stated purpose and needs of the proposed action, which are to provide protection and conservation to listed and proposed species and their habitats to the extent intended under section 10(a)(1)(B) of the Act, while allowing I.P. Pacific to fulfill its forest management and timber harvest planning in a practical manner.

This notice is provided pursuant to section 10(a) of the Act and NEPA regulations. The Services will evaluate the applications, associated documents, and comments submitted thereon to determine whether the application meets the requirements of the Act and NEPA. If it is determined that the requirements are met, a permit will be issued for the incidental take of all covered species. The final permit decisions will be made no sooner than November 20, 2000.

Libraries: Copies of the documents are available at the following libraries: Yakima Valley Regional Library, 102 North 3rd Street, Yakima, WA, 98901 (509) 452-8541; Wenatchee Public Library, 310 Douglas Street, Wenatchee WA, 98801, (509) 664-3910; Seattle Public Library, Government Publications Desk, 1000 4th Avenue, Seattle, WA, (260) 386-4636; Olympia Timberland Library, Reference Desk, 313 8th Avenue SE, Olympia, WA, (360) 352-0595; and, White Salmon Valley Community Library, 5 Town and Country Square, White Salmon, WA 98672.

Dated: June 27, 2000.
Don Weathers,
Regional Director, Fish and Wildlife Service, Region 1, Portland, Oregon

Dated: September 14, 2000.
Wanda Cain,
Chief, Endangered Species Division, Office of Protected Resources, National Marine Fisheries Service.

[FR Doc. 00-24016 Filed 9-18-00; 8:45 am]

BILLING CODES 3510-22-S,4310-55-S